DEPARTMENT OF HEALTH AND HUMAN SERVICES

Centers for Disease Control and Prevention

[30-Day-11-10EG]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Audience Analysis for Biomonitoring—New—National Center for Environmental Health/Agency for Toxic Substances and Disease Registry (NCEH/ATSDR), Centers for Disease Control and Prevention (CDC).

Background and Brief Description

People's exposure to environmental chemicals can be a risk to their health. Scientists at the CDC use biomonitoring, which is the measurement of environmental chemicals in human tissues and fluids, to assess such exposure. Biomonitoring findings, however, do not typically provide information on health risks and toxicity data often lag behind new biomonitoring data. The health effects on humans are, therefore, often uncertain or unknown, particularly, for many new or “emerging” chemicals. Nevertheless, communicating biomonitoring findings for those charged with this task is necessary, especially due to the growing media coverage and public concern about chemicals found in the human body. The demand for answers and decreasing patience with uncertainty characterizes the interpretation of such results. This poses enormous challenges to those tasked to communicate such findings to both scientific and non-scientific audiences without a biomonitoring background.

The CDC is, therefore, interested in developing a framework for communicating health risk messages, particularly about emerging environmental chemicals, to the attentive public audience such as selected women who are pregnant or have very young children. The three environmental chemicals, Bisphenol A (BPA), phthalates, and mercury have been selected for this study. They are of particular interest to these selected women as the risks of exposure are higher for very young children because of their hand-to-mouth behaviors and direct oral (mouth) contact with materials containing these chemicals. Furthermore, young children eat and drink more per pound of body weight than adults.

Focus groups will be conducted in different parts of the country with selected women. During phase one, eight exploratory focus groups will be conducted to develop messaging strategies and the results will be used in the development of preliminary messages about the emerging chemicals. The second phase will include six message testing focus groups to determine which messages are most attractive and compelling in terms of communicating health risk information about emerging chemicals.

Participants will be recruited via standard focus group recruitment methods. Most will come from an existing database (or list) of potential participants maintained by the focus group facility. There is no cost to respondents other than their time. The total estimated annual burden hours are 273.

Estimated Annualized Burden Hours
Type of respondent | Form name | Number of respondents | Responses per respondent | Average burden per response (in hours)
Selected women for screening | Recruitment Screener | 252 | 1 | 5/60
Selected women for exploratory focus groups | Exploratory Focus Group Guide | 72 | 1 | 2
Selected women for message testing focus groups | Message Testing Focus Group Guide | 54 | 1 | 2

Dated: October 19, 2010.
Carol E. Walker,
Acting Reports Clearance Officer, Centers for Disease Control and Prevention.

[FR Doc. 2010-26878 Filed 10-22-10; 8:45 am]

BILLING CODE 4163-18-P